NEIGHBORHOOD REINVESTMENT CORPORATION

Neighborworks® America; Regular Meeting of the Board of Directors; Sunshine Act

Time and Date: 2 p.m. Wednesday, October 11, 2006.

Place: 1325 G Street NW., Suite 800, Boardroom, Washington, DC 2005.

Status: Open.

Contact Person For More Information: Jeffrey T. Bryson, General Counsel/Secretary, (202) 220-2372; jbryson@nw.org.

Agenda:

I. Call to Order.

II. Approval of the Minutes.

III. Summary Report of the Audit Committee.

IV. Summary Report of the Finance, Budget and Program Committee.

V. Summary Report of the Corporate Administration Committee.

VI. Financial Report.

VII. Chief Executive Officer's Quarterly Management Report.

a. Strategic Plan Update.

b. Gulf Coast Rebuilding Initiative.

c. CFO Update.

d. GSE Housing Fund Update.

e. Center for Foreclosure Solutions.

f. NHSA Update.

VIII. Training Division Update.

IX. Adjournment.

Jeffrey T. Bryson,
General Counsel/Secretary.

[FR Doc. 06-8538 Filed 10-3-06; 1:19 pm]

BILLING CODE 7570-02-M